DEPARTMENT OF COMMERCE

National Oceanic and Atmospheric Administration

RIN 0648-XU05

Mid-Atlantic Fishery Management Council; Public Hearings

AGENCY: National Marine Fisheries Service (NMFS), National Oceanic and Atmospheric Administration (NOAA), Commerce.

ACTION: Notice of public hearings.

SUMMARY: The Mid-Atlantic Fishery Management Council (MAFMC) will hold public hearings in February 2010 to allow for input on Amendment 11 to the Atlantic Mackerel, Squid, and Butterfish (MSB) Fishery Management Plan (FMP). See SUPPLEMENTARY INFORMATION below for times and locations.

DATES: Send written comments will be accepted until March 1, 2010.

ADDRESSES: Send comments to: Daniel T. Furlong, Executive Director, Mid-Atlantic Fishery Management Council, Room 2115, Federal Building, 300 South New Street, Dover, DE 19904.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: There are 7 proposed management actions in this Amendment. The proposed management actions could:

1-4: Create a tiered limited access system in the Atlantic mackerel fishery;

5: Update Essential Fish Habitat (EFH) designations for all species in the MSB FMP;

6: Establish a percentage allocation between the recreational and commercial mackerel sectors; and

7: Establish limitations on at-sea processing via at-sea transfers (i.e. processing by motherships) in the mackerel fishery.

Summaries of the proposed actions will be available and presented at the hearings.

The full draft Environmental Impact Statement that analyzes the proposed actions may be downloaded at: http://www.nero.noaa.gov/nero/regs/com.html.

The scheduled public hearings are as follows:

(The February 9 hearing notice was already published in the Federal Register as part of the MAFMC's February Council meeting but is included in this list for completeness.)

February 9; 7-9 p.m.; Hyatt Regency Chesapeake Bay Resort, Cambridge, MD

February 16; 5-7 p.m.; Annisquam River Marine Fisheries Station, Gloucester, MA

February 17; 5-7 p.m.; Radisson Hotel Providence Airport, Providence, RI

February 18; 5-7 p.m.; Congress Hall Hotel, Cape May, NJ

February 24; 5-7 p.m.; Virginia Marine Resources Commission, Newport News, VA

All hearings will be digitally recorded and saved as transcripts of the hearing.

Special Accommodations

These hearings are physically accessible to people with disabilities. Requests for sign language interpretation or other auxiliary aid should be directed to M. Jan Bryan, (302) 674-2331 ext 18, at least 5 days prior to the hearing date.

Dated: January 21, 2010.
William D. Chappell,
Acting Director, Office of Sustainable Fisheries, National Marine Fisheries Service.

[FR Doc. 2010-1526 Filed 1-26-10; 8:45 am]

BILLING CODE 3510-22-S